DEPARTMENT OF THE INTERIOR

Bureau of Land Management

[ID-330-1430-ELL; DSG070001; IDI-35511]

Notice of Realty Action; Modified Competitive Sale of Public Land, Custer County, ID

AGENCY: Bureau of Land Management, Interior.

ACTION: Notice of realty action.

SUMMARY: The Bureau of Land Management (BLM) has examined and determined that one parcel of public land approximately 103.88 acres, located in Custer County, Idaho is suitable for disposal by modified competitive sale to all qualified members of the public, pursuant to Sections 203 and 209 of the Federal Land Policy and Management Act (FLPMA) of 1976, as amended.

DATES: Interested parties may submit comments to the BLM Challis Field Office Manager, at the below address. Comments must be received no later than July 9, 2007. Only written comments will be accepted.

ADDRESSES: Detailed information including but not limited to documentation relating to compliance with all applicable environmental and cultural resource laws is available for review at the BLM Challis Field Office. Address all written comments concerning this Notice to David Rosenkrance, BLM Challis Field Office Manager, 801 Blue Mountain Rd, Challis, Idaho 83226-9304. Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: The BLM has identified the Lezamiz Family Limited Partnership (FLP) (John T. Lezamiz, General Partner/Representative) as the proponent in this modified competitive sale. As the proponent, Mr. Lezamiz is reserved the right to match the highest bid. The purchase price will be determined through an open bidding process. The minimum opening bid will be no less than the appraised fair market value as determined by a Department of the Interior appraisal.

The following described public land in Custer County, Idaho has been determined to be suitable for sale at a price to be determined in an open bidding process under Sections 203 and 209 of the Federal Land Policy and Management Act of 1976, as amended (43 U.S.C. 1713 and 1719). The BLM has determined this land is difficult to economically manage [as part of the public lands] and that resource values will not be affected by the disposal of this parcel of public land. The parcel is identified for disposal in the Challis Resource Management Plan (1999), and its disposal would be in the public interest. In accordance with 43 CFR 2711.3-2(a)(2), this parcel is being offered by modified competitive sale to the Lezamiz FLP and all qualified members of the public. John T. Lezamiz/Lezamiz FLP has been named the proponent based on two circumstances. The first is the fact that John T. Lezamiz is the adjacent landowner immediately to the south of the subject parcel. Second, Mr. Lezamiz is the current grazing permit holder, and has historically used the parcel in that capacity. Additionally, the Lezamiz FLP arranged for and paid for the environmental impact analysis and resource clearances completed for this proposed action. The parcel is fenced, bordered to the west and south by private property, and has no improvements. If selected as the highest bidder, failure or refusal of Lezamiz FLP to submit payment within 180 days of the sale of the parcel will constitute a waiver of this preference consideration. This parcel may then be offered for sale on a competitive basis. If another member of the public is selected as the highest bidder and fails to submit payment within 180 days of the sale, the parcel may again be offered on a competitive basis.

The parcel is described as follows:

Boise Meridian, Idaho

T. 7 N., R. 25 E., section 30, lots 13, 14 and 15.

The area described contains 103.88 acres, more or less. The market value, not less than the current fair market value, utilizing modified competitive bid sale procedures, is yet to be determined by Department of the Interior appraisal.

The patent, when issued, will contain a reservation to the United States for ditches and canals under the authority of the United States pursuant to the Act of August 30, 1890, 26 Stat. 391 (43 U.S.C. 945). No warranty of any kind, express or implied, is given by the United States as to title, whether or to what extent the land may be developed, its physical condition, future uses, or any other circumstance or condition. The conveyance of the parcel will not be on a contingency basis. However, to the extent required by law, the parcel is subject to the requirements of section 120(h) of the Comprehensive Environmental Response, Compensation and Liability Act, (42 U.S.C. 9620(h)) (CERCLA), as amended by the Superfund Amendments and Reauthorization Act (SARA) of 1988, (100 Stat. 1670). Notice is hereby given that the above-described lands have been examined and no evidence was found to indicate any hazardous substances had been stored for one year or more, nor had any hazardous substances been disposed of or released on the subject property.

A mineral potential report will be completed by the BLM prior to the execution of the sale. If the report concludes the subject parcel contains minerals of value they shall be reserved to the United States. If the report determines the subject parcel contains no known mineral values, mineral interests will be conveyed simultaneously with the surface. A separate non-refundable filing fee of $50.00 is required from the purchaser for the conveyance of the mineral interest.

Upon publication of this notice in the Federal Register, the land described above will be segregated from appropriation under the public land laws, including the general mining laws. The segregation will end upon issuance of patent or other documents of conveyance for such lands, upon publication in the Federal Register of a termination of the segregation, or May 26, 2009, whichever occurs first, unless extended by the BLM State Director in accordance with 43 CFR 2611.2(a), prior to the termination date.

Comments must be received by the BLM Challis Field Manager, Idaho Falls District Office, at the address stated above, on or before the date noted in the DATES section above. Any adverse comments will be reviewed by the Idaho Falls District Manager, who may sustain, vacate or modify this realty action. In the absence of any objections, or adverse comments, this proposed realty action will become the final determination of the Department of the Interior. The land will not be offered for sale until at least 60 days after the date of publication of this notice in the Federal Register. The BLM may accept or reject any or all offers, or withdraw any land or interest in the land from sale, if, in the opinion of the authorized officer, consummation of the sale would not be fully consistent with FLPMA, or other applicable laws.

FOR FURTHER INFORMATION CONTACT: Tim Vanek, Realty Specialist, at the above address or call: (208) 879-6218.

Authority: 43 CFR 2711.1-2(c).

Joe Kraayenbrink,
District Manager, Idaho Falls District.

[FR Doc. E7-9939 Filed 5-22-07; 8:45 am]

BILLING CODE 4310-GG-P